DEPARTMENT OF JUSTICE

Notice of Lodging of Proposed Consent Decree Under the Clean Air Act

On August 23, 2019, the Department of Justice lodged a proposed Consent Decree with the United States District Court for the Middle District of Florida in the lawsuit entitled United States of America v. Southeastern Grocers, Inc., BI-LO, LLC, and Winn-Dixie Stores, Inc., Civil Action No. 3:19-cv-00988-MMH-MCR.

The United States filed this lawsuit under the Clean Air Act. The United States' complaint seeks injunctive relief and civil penalties for violations of the regulations governing the service and repair of commercial refrigeration appliances that use ozone-depleting refrigerant and for violations of the recording keeping regulations. The consent decree requires Defendants to perform injunctive relief related to refrigeration equipment at approximately 576 stores and pay a $300,000 civil penalty.

The publication of this notice opens a period for public comment on the Consent Decree. Comments should be addressed to the Assistant Attorney General, Environment and Natural Resources Division, and should refer to United States of America v. Southeastern Grocers, Inc., BI-LO, LLC, and Winn-Dixie Stores, Inc., D.J. Ref. No. 90-5-2-1-11839. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $20.00 (25 cents per page reproduction cost) payable to the United States Treasury. For a paper copy without the appendix and signature pages, the cost is $11.00.

Henry Friedman,
Assistant Section Chief, Environmental Enforcement Section, Environment and Natural Resources Division.

[FR Doc. 2019-20001 Filed 9-16-19; 8:45 am]

BILLING CODE 4410-15-P